DEPARTMENT OF TRANSPORTATION

Federal Highway Administration

Notice of Final Federal Agency Actions on Proposed Highway in Alaska

AGENCY: Federal Highway Administration (FHWA), Department of Transportation (DOT).

ACTION: Notice of Limitations on Claims for Judicial Review of Actions by the Alaska Department of Transportation and Public Facilities (DOT&PF).

SUMMARY: The FHWA, on behalf of DOT&PF, is issuing this notice to announce actions taken by DOT&PF that are final. The actions relate to a proposed highway project, Sterling Safety Corridor Improvements Milepost (MP) 82.5 to 94, in the Kenai Peninsula Borough and the Cities of Soldotna and Kenai, Alaska. Those actions grant licenses, permits, and approvals for the project.

DATES: By this notice, the FHWA, on behalf of DOT&PF, is advising the public of final agency action subject to 23 U.S.C. 139(l)(1). A claim seeking judicial review of the Federal agency actions on the listed highway project will be barred unless the claim is filed on or before June 17, 2022. If the Federal law that authorizes judicial review of a claim provides a time period of less than 150 days for filing such claim, then that shorter time period still applies.

FOR FURTHER INFORMATION CONTACT: For DOT&PF: Brian Elliott, DOT&PF Central Region Environmental Manager, Alaska Department of Transportation and Public Facilities, 4111 Aviation Drive, P.O. Box 196900, Anchorage, Alaska 99519-6900; office hours 7:30 a.m.-5 p.m. (AST), phone (907) 269-0539, email Brian.Elliott@alaska.gov. For FHWA: Mr. Michael Lukshin, Area Engineer, FHWA Alaska Division, P.O. Box 21648, Juneau, Alaska 99802-1648; office hours 8 a.m.-4:30 p.m. (AST), phone (907) 586-7189; email michael.lukshin@dot.gov.

SUPPLEMENTARY INFORMATION: Effective November 3, 2017, FHWA assigned, and DOT&PF assumed, environmental responsibilities for this project pursuant to 23 U.S.C. 327. As such, environmental review, consultation, and other actions required by applicable Federal environmental laws for this project have been carried out by DOT&PF pursuant to 23 U.S.C. 327 and a Memorandum of Understanding executed by FHWA and DOT&PF. Notice is hereby given that DOT&PF has taken final agency actions subject to 23 U.S.C. 139(l)(1) by issuing licenses, permits, and approvals for the proposed highway project, Sterling Safety Corridor Improvements, in the Kenai Peninsula Borough and the Cities of Soldotna and Kenai, Alaska. The proposed project would improve the Sterling Highway by expanding the existing road to a four-lane divided highway, with a depressed median from approximately Handley Street in Sterling (MP 82.5) to Kleeb Loop in Soldotna (MP 94), with each end transitioning to a four-lane highway divided with a center two-way left-turn lane to tie back into the existing lane configurations. Additional improvements include median breaks approximately every half-mile with dedicated left-turn lanes, frontage road and pedestrian facility construction, utility relocations, vegetation clearing, drainage improvements, and roadside hardware upgrades.

The actions by the Federal agencies, and the laws under which such actions were taken, are described in the Final Environmental Assessment (FEA) for the project, approved on December 16, 2021, in the Finding of No Significant Impact (FONSI) issued on December 16, 2021, Section 4(f) de minimis finding, approved on November 11, 2021, and in other documents in the DOT&PF project records. The FEA, Section 4(f) de minimis finding, FONSI, and other project records are available by contacting DOT&PF at the addresses provided above. The FEA and FONSI documents can be viewed and downloaded from the project website at http://www.sterlinghighway82to94.com/, or viewed at 4111 Aviation Avenue, Anchorage, Alaska 99519.

This notice applies to all Federal agency decisions as of the issuance date of this notice and all laws under which such actions were taken, including but not limited to:

1. General: National Environmental Policy Act (NEPA) [42 U.S.C. 4321 et seq.]; Council on Environmental Quality Regulations [40 CFR parts 1500 et seq.]; Federal-Aid Highway Act of 1970 [23 U.S.C. 109]; MAP-21, the Moving Ahead for Progress in the 21st Century Act [Pub. L. 112-141].

2. Air: Clean Air Act [42 U.S.C. 7401 et seq.].

3. Land: Section 4(f) of the Department of Transportation Act of 1966 [49 U.S.C. 303]; Land and Water Conservation Fund (LWCF) [54 U.S.C. 200301 et seq.].

4. Noise: Noise Control Act of 1972 [42 U.S.C. 4901 et seq.].

5. Wetlands and Water Resources: Clean Water Act (Section 401 and Section 404) [33 U.S.C. 1251 et seq.] (Federal Water Pollution Control Act of 1972); Safe Drinking Water Act, as amended [42 U.S.C. 300f et seq.]; Coastal Zone Management Act [16 U.S.C. 1451 et seq.]; Wild and Scenic Rivers Act [16 U.S.C. 1271 et seq.].

6. Wildlife: Endangered Species Act of 1973, as amended [16 U.S.C. 1531 et seq.]; Marine Mammal Protection Act of 1972, as amended [16 U.S.C. 1361 et seq.]; Fish and Wildlife Coordination Act, as amended [16 U.S.C. 661 et seq.]; Migratory Bird Treaty Act [16 U.S.C. 703-712]; Anadromous Fish Conservation Act [16 U.S.C. 757a-757g]; Magnuson-Stevenson Fishery Conservation and Management Act, as amended [16 U.S.C. 1801 et seq.].

7. Historic and Cultural Resources: Section 106 of the National Historic Preservation Act of 1966, as amended [54 U.S.C. 306108]; Archeological Resources Protection Act of 1977 [16 U.S.C. 470aa et seq.]; Archeological and Historic Preservation Act [54 U.S.C. 312501 et seq.].

8. Social and Economic: Title VI of the Civil Rights Act of 1964, as amended [42 U.S.C. 2000d et seq.]; Farmland Protection Policy Act (FPPA) [7 U.S.C. 4201 et seq.].

9. Executive Orders: E.O. 13186—Responsibilities of Federal Agencies to Protect Migratory Birds; E.O. 11514—Protection and Enhancement of Environmental Quality; E.O. 11990—Protection of Wetlands; E.O. 11988—Floodplain Management; E.O. 13112—Invasive Species; E.O. 12898—Federal Actions to Address Environmental Justice in Minority Populations and Low-Income Populations.

(Catalog of Federal Domestic Assistance Program Number 20.205, Highway Planning and Construction. The regulations implementing Executive Order 12372 regarding intergovernmental consultation on Federal programs and activities apply to this program.)

(Authority: 23 U.S.C. 139(l)(1))

Sandra A. Garcia-Aline,
Division Administrator, Juneau, Alaska.

[FR Doc. 2022-00747 Filed 1-14-22; 8:45 am]

BILLING CODE 4910-22-P